FEDERAL ELECTION COMMISSION

Sunshine Act Notices

AGENCY: Federal Election Commission.

Date & Time: Thursday, November 13, 2008 at 1:30 p.m.

Place: 999 E Street, NW., Washington, DC (ninth floor).

Status: This meeting will be open to the public.

Items To Be Discussed: Correction and Approval of Minutes.

Draft Advisory Opinion 2008-14: Melothe, Inc. by Marc E. Elias, Esquire.

Report of the Audit Division on Edwards for President.

Report of the Audit Division on the Kuhl for Congress Committee.

Report of the Audit Division on the Missouri Democratic State Committee.

Report of the Audit Division on the Oregon Republican Party.

Report of the Audit Division on Sharpton 2004.

Management and Administrative Matters.

Person to Contact for Information: Robert Biersack, Press Officer, Telephone: (202) 694-1220.

Individuals who plan to attend and require special assistance, such as sign language interpretation or other reasonable accommodations, should contact Mary Dove, Commission Secretary, at (202) 694-1040, at least 72 hours prior to the hearing date.

Mary W. Dove,
Secretary of the Commission.

[FR Doc. E8-26877 Filed 11-10-08; 11:15 am]

BILLING CODE 6715-01-P